DEPARTMENT OF TRANSPORTATION

Federal Motor Carrier Safety Administration

[Docket No. FMCSA 2015-0146]

Agency Information Collection Activities; Extension of a Currently-Approved Information Collection Request: Training Certification for Entry-Level Commercial Motor Vehicle Operators

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. The Agency is asking OMB to renew without change FMCSA's estimate of the paperwork burden imposed by its regulations pertaining to the training of certain entry-level drivers of commercial motor vehicles (CMVs). Since 2004, FMCSA regulations have prohibited the operation of certain CMVs by individuals with less than 1 year of CMV-driving experience until they obtain this training. On May 28, 2015, FMCSA published a Federal Register notice allowing for a 60-day comment period on this ICR. The agency received no comments in response to that notice.

DATES: Please send your comments to this notice by October 5, 2015 OMB must receive your comments by this date to act quickly on the ICR.

ADDRESSES: All comments should reference Federal Docket Management System (FDMS) Docket Number FMCSA-2015-0146. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, faxed to (202) 395-6974, or mailed to the Office of Information and Regulatory Affairs, Office of Management and Budget, Docket Library, Room 10102, 725 17th Street NW., Washington, DC 20503.

FOR FURTHER INFORMATION CONTACT: Mr. Thomas Yager, Chief, FMCSA Driver and Carrier Operations Division, Department of Transportation, FMCSA, West Building 6th Floor, 1200 New Jersey Avenue SE., Washington, DC 20590. Telephone: 202-366-4325. Email: MCPSD@dot.gov.

SUPPLEMENTARY INFORMATION:

Title: Training Certification for Entry-Level Commercial Motor Vehicle Operators.

OMB Control Number: 2126-0028.

Type of Request: Extension of a currently-approved ICR.

Respondents: Entry-level CDL drivers.

Estimated Number of Respondents: 397,500.

Estimated Time per Response: 10 minutes.

Expiration Date: January 31, 2016.

Frequency of Response: On occasion.

Estimated Total Annual Burden: 66,250 hours. FMCSA estimates that an entry-level driver requires approximately 10 minutes to complete the tasks necessary to comply with the regulation. Those tasks are photocopying the training certificate, giving the photocopy to the motor carrier employer, and retaining the original of the certificate. Therefore, the annual burden for all entry-level drivers is 66,250 hours [397,500 drivers x 10/60 minutes to respond = 66,250 hours].

Background

The Commercial Motor Vehicle Safety Act of 1986 (CMVSA) (49 U.S.C. 31301 et seq.) established the commercial driver's license (CDL) program and directed the Federal Highway Administration (FHWA), FMCSA's predecessor agency, to establish minimum qualifications for issuance of a CDL. After public notice and an opportunity for comment, the FHWA established standards for the knowledge and skills that a CDL applicant must satisfy.

In 1985, the FHWA published the “Model Curriculum for Training Tractor-Trailer Drivers.” The FHWA did not mandate driver training at that time. It believed the cost of developing a comprehensive driver-training program was too high in terms of agency resources. This was especially so, FHWA believed, in light of its reasonable expectation that the level of safety of entry level drivers would soon be elevated because (1) the deadline for States to adopt the new mandatory CDL-licensing standards for driver knowledge and skills was still in the future, and (2) many truck driving schools had updated their curricula in light of the new model curriculum (“Truck Safety: Information on Driver Training,” Report of the U.S. General Accounting Office, GAO/RCED-89-163, August 1989, pages 4 and 5).

In 1991, the Intermodal Surface Transportation Efficiency Act of 1991 (ISTEA) (Pub. L. 102-240, December 18, 1991) directed the FHWA to “commence a rulemaking proceeding on the need to require training of all entry-level drivers of commercial motor vehicles (CMVs)” (Section 4007(a)(2)). On June 21, 1993, the FHWA issued an advance notice of proposed rulemaking entitled, “Commercial Motor Vehicles: Training for All Entry Level Drivers” (58 FR 33874). The Agency also began a study of the effectiveness of the driver training currently being received by entry-level CMV drivers. The results of the study were published in 1997 under the title “Adequacy of Commercial Motor Vehicle Driver Training.” The study is available under FMCSA Docket 1997-2199 at the Federal eRulemaking Portal (www.regulations.gov) described above. The study found that three segments of the trucking industry were not receiving adequate entry-level training: Heavy truck, motor coach, and school bus.

On August 15, 2003, FMCSA published a notice of proposed rulemaking (NPRM) entitled, “Minimum Training Requirements for Entry-Level Commercial Motor Vehicle Operators” (68 FR 48863). The Agency proposed mandatory training for operators of CMVs on four topics: Driver qualifications, hours-of-service of drivers, driver wellness and whistle-blower protection. On May 21, 2004, FMCSA by final rule prohibited a motor carrier from allowing an entry-level driver to operate a CMV until it received a written certificate indicating that the driver had received training in the four subject areas (69 FR 29384). The rule became effective on July 20, 2004. Training providers were required to provide a certificate to each driver trainee receiving the requisite training.

The Agency is asking OMB to renew without change FMCSA's estimate of the paperwork burden imposed by its regulations. (The Agency is currently conducting a negotiated rulemaking to develop a notice of proposed rulemaking (NPRM) for training of entry-level CMV operators, and is currently preparing a NPRM based on the consensus recommendations of the Entry-Level Driver Training Advisory Committee; if the NPRM proposes amending driver-training requirements, the Agency will submit an estimate of the revised ICR burden of the requirements for OMB approval).

Definitions: (1) “Federal Motor Carrier Safety Regulations” (FMCSRs) are parts 350-399 of volume 49 of the Code of Federal Regulations. (2) “Commercial motor vehicle” (CMV) means a motor vehicle or combination of motor vehicles used in commerce to transport passengers or property if the motor vehicle—(a) has a gross combination weight rating of 11,794 kilograms or more (26,001 pounds or more) inclusive of a towed unit(s) with a gross vehicle weight rating (GVWR) of more than 4,536 kilograms (10,000 pounds); or (b) has a GVWR of 11,794 or more kilograms (26,001 pounds or more); or (c) is designed to transport 16 or more passengers, including the driver; or (d) is of any size and is used in the transportation of hazardous materials as defined in 49 CFR 383.5 (49 CFR 383.5). The definition of CMV found at 49 CFR 390.5 of the FMCSRs is not applicable to this notice. (3) “Commercial Driver's License (CDL) Driver” means the operator of a CMV because such operators must possess a valid commercial driver's license (CDL) (Section 383.23(a)(2)). (4) “Entry-level CDL Driver” means a driver with less than one year of experience operating a CMV with a CDL in interstate commerce (49 CFR 380.502(b)).

Public Comments Invited

FMCSA requests that you comment on any aspect of this information collection, including: (1) Whether the proposed collection is necessary for FMCSA to perform its functions, (2) the accuracy of the estimated burden, (3) ways for the FMCSA to enhance the quality, usefulness, and clarity of the collected information, and (4) ways that the burden could be minimized without reducing the quality of the collected information. The agency will summarize or include your comments in the request for OMB's clearance of this information collection.

Issued under the authority delegated in 49 CFR 1.87 on: August 25, 2015.
G. Kelly Regal,
Associate Administrator, Office of Research and Information Technology.

[FR Doc. 2015-21894 Filed 9-2-15; 8:45 am]

BILLING CODE 4910-EX-P